DEPARTMENT OF THE INTERIOR

Fish and Wildlife Service

[Docket No. FWS-R4-ES-2025-0042; FXES11140400000-256-FF04AL4000]

Receipt of Two Incidental Take Permit Applications for Participation in the General Conservation Plan for the Alabama Beach Mouse; Categorical Exclusion; Baldwin County, AL

AGENCY: Fish and Wildlife Service, Interior.

ACTION: Notice of availability; request for comment.

SUMMARY: We, the Fish and Wildlife Service (Service), announce receipt of an application from Lydia Carpenter and one from Joshua Milligan 1031, LLC (applicant/applicants) for two separate incidental take permits (ITP) pursuant to the Endangered Species Act (ESA) and the National Environmental Policy Act under the approved General Conservation Plan (GCP) and final environmental impact statement (FEIS) for the Alabama beach mouse. A GCP is a mechanism that meets the definition of a conservation plan in the ESA and enables the programmatic permitting and conservation process to address a defined suite of proposed activities over a defined planning area. Each applicant requests an ITP to take the federally listed Alabama beach mouse incidental to the construction of a single-family home in Baldwin County, Alabama. We request public comment on these applications, which include the applicants' proposed habitat conservation plan (HCP) and on the Service's preliminary determination that the proposed permitting action may qualify under the terms of the Alabama beach mouse GCP. We certify that the applications received are statutorily complete and include the necessary information to enroll in the GCP.

DATES: We must receive your written comments on or before September 22, 2025.

ADDRESSES:

Obtaining Documents: The documents this notice announces, as well as any comments and other materials that we receive, will be available for public inspection online in Docket No. FWS-R4-ES-2025-0042 at https://www.regulations.gov.

Submitting Comments: If you wish to submit comments on any of the documents, you may do so in writing by one of the following methods:

• Online: https://www.regulations.gov. Follow the instructions for submitting comments on Docket No. FWS-R4-ES-2025-0042.

• U.S. Mail: Public Comments Processing, Attn: Docket No. FWS-R4-ES-2025-0042; U.S. Fish and Wildlife Service, MS: PRB/3W, 5275 Leesburg Pike, Falls Church, VA 22041-3803.

FOR FURTHER INFORMATION CONTACT: William Lynn, by U.S. mail (see ADDRESSES), by telephone at 1-251-538-2065, or via email at william_lynn@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the Fish and Wildlife Service, announce receipt of an application under the approved GCP for the Alabama beach mouse from Lydia Carpenter and an application from Joshua Milligan 1031, LLC for an ITP under the Endangered Species Act, as amended (ESA; 16 U.S.C. 1531 et seq.). Each applicant requests an ITP to take the federally listed Alabama beach mouse (Peromyscus polionotus ammobates). One applicant will take Alabama beach mice (ABM) incidental to the construction, maintenance, and operation of a deck with a pool while the other will take ABM incidental to construction of a single-family home in Baldwin County, Alabama. We request public comment on the application, the applicants' HCPs, and on the Service's preliminary determination that these proposed ITPs may qualify for a categorical exclusion under the GCP and FEIS for the Alabama beach mouse published on March 28, 2012 (FWS-R4-ES-2012-N063).

Proposed Projects

Permit Number: PER16528606

The applicant Lydia Carpenter requests a 50-year ITP to take ABM via the conversion of 0.015 acres (ac) of occupied nesting, foraging, and sheltering habitat incidental to the construction of a deck with pool to an existing house on a 0.460-ac parcel located at 5609 Beach Boulevard in Gulf Shores, Alabama. The applicant proposes to mitigate for the take of ABM through an in-lieu fee of $1,476.60 to the Alabama Coastal Heritage Trust's ABM conservation fund.

Permit Number: PER18606066

Applicant Joshua Milligan 1031, LLC requests a 50-year ITP to take ABM via the conversion of approximately 0.036 acre (ac) of occupied nesting, foraging, and sheltering habitat via the tear down, enlargement, and reconstruction of a single-family home on a 0.413-ac lot. The parcel is located at 5465 Beach Boulevard in Gulf Shores, Alabama. The applicant proposes to mitigate for the take of ABM through an in-lieu fee of $3,590.30 to the Alabama Coastal Heritage Trust's ABM conservation fund.

Our Preliminary Determination

The Service has made a preliminary determination that reasonably foreseeable effects of the applicants' proposed projects, including the construction of a deck with a pool and a single-family home and associated infrastructure (e.g., electric, water, and sewer lines), would have a minor effect on ABM and the human environment. Therefore, we have preliminarily determined that the proposed ESA section 10(a)(1)(B) permit would meet the requirements of the GCP and FEIS.

Next Steps

The Service will evaluate the application and the comments to determine whether to issue the requested ITP. We will also conduct an intra-Service consultation pursuant to section 7 of the ESA to evaluate the effects of the proposed take. After considering the preceding and other matters, we will determine whether the permit issuance criteria of section 10(a)(1)(B) of the ESA have been met. If met, the Service will issue ITP number PER16528606 to Lydia Carpenter and ITP number PER18606066 to Joshua Milligan 1031, LLC.

Public Availability of Comments

Before including your address, phone number, email address, or other personal identifying information in your comment, be aware that your entire comment, including your personal identifying information, may be made available to the public. If you submit a comment at https://www.regulations.gov, your entire comment, including any personal identifying information, will be posted on the website. If you submit a hardcopy comment that includes personal identifying information, such as your address, phone number, or email address, you may request at the top of your document that we withhold this information from public review. However, we cannot guarantee that we will be able to do so. Moreover, all submissions from organizations or businesses, and from individuals identifying themselves as representatives or officials of organizations or businesses, will be made available for public disclosure in their entirety.

Authority

The Service provides this notice under section 10(c) of the ESA (16 U.S.C. 1531 et seq.) and its implementing regulations (50 CFR 17.32), National Environmental Policy Act of 1969 (42 U.S.C. 4321 et seq.), as amended, and the Department of the Interior's implementing regulations (43 CFR part 46).

William J. Pearson,
Field Supervisor, Alabama Ecological Service Field Office.

[FR Doc. 2025-15979 Filed 8-20-25; 8:45 am]

BILLING CODE 4333-15-P